DEPARTMENT OF EDUCATION

[CFDA 84.215H]

Office of Safe and Drug-Free Schools—Foundations For Learning Grants; Notice Inviting Applications for New Awards for Fiscal Year (FY) 2003.

Purpose of program: This program supports projects to help eligible children become ready for school.

Eligible applicants: (1) Local educational agencies (LEAs); (2) local councils; (3) community-based organizations (CBOs), including faith-based organizations, provided that they meet the applicable statutory and regulatory requirements; (4) other public and nonprofit private entities; or (5) a combination of such entities.

Applications available: June 26, 2003.

Deadline for transmittal of applications: July 30, 2003.

Deadline for intergovernmental review: August 30, 2003.

Estimated available funds: $993,500.

Estimated range of awards: $200,000-$300,000.

Estimated average size of awards: $248,000.

Estimated number of awards: 4.

Note: The Department is not bound by any estimates in this notice.

Project period: Up to 18 months.

Applicable regulations: (a) The Education Department General Administrative Regulations (EDGAR) in 34 CFR parts 74, 75, 77, 79, 80, 81, 82, 85, 97, 98, and 99; and (b) the final priorities, selection criteria and definitions for this grant competition as published in this notice.

Absolute priority: Under 34 CFR 75.105(c)(3) and the Elementary and Secondary Education Act of 1965, as amended by the No Child Left Behind Act of 2001 (Title V “ Section 5542), we give absolute preference to applications that meet the following priority: grants to local educational agencies, local councils, community-based organizations, and other public and nonprofit private entities to assist eligible children to become ready for school.

To be eligible for funding, a project must propose to:

(1) Deliver services to eligible children and their families that foster eligible children's emotional, behavioral, and social development;

(2) Coordinate and facilitate access by eligible children and their families to the services available through community resources, including mental health, physical health, substance abuse, educational, domestic violence prevention, child welfare, and social services; and

(3) Develop or enhance early childhood community partnerships and build toward a community system of care that brings together child-serving agencies or organizations to provide individualized supports for eligible children and their families.

Competitive Preference Priority: Within the statutory priority for this competition for FY 2003, we will award five additional points to novice applicants. These points are in addition to any points the application earns under the selection criteria for this program.

Note: The total number of points an application may earn is 105.

Limitations

(1) Grant funds may be used only to pay for services that cannot be paid for using other Federal, State, or local public resources or through private insurance.

(2) A grantee may not use more than 3 percent of the amount of the grant to pay the expenses of administering the authorized activities, including assessment of children's eligibility for services.

Application Requirements

Applications submitted under this program must include the following:

(1) A description of the population that the applicant intends to serve and the types of services to be provided under the grant;

(2) A description of the manner in which services under the grant will be coordinated with existing similar services provided by public and nonprofit private entities within the State; and

(3) An assurance that:

• Services under the grant shall be provided by or under the supervision of qualified professionals with expertise in early childhood development;

• services shall be culturally competent;

• services shall be provided in accordance with the absolute priority;

• funds shall be used to supplement, and not supplant, non-Federal funds; and

• parents of students participating in services will be involved in the design and implementation of the services.

SUPPLEMENTARY INFORMATION:

Participation of Faith-Based Organizations

Faith-based organizations are eligible to apply for grants under this competition provided they meet all statutory and regulatory requirements.

General Information

Contingent upon the availability of funds, we may make additional awards in FY 2004 from the rank-ordered list of unfunded applications from this competition.

Definitions

(1) The term “eligible child” means a child who has not attained the age of 7 years, and to whom two or more of the following characteristics apply:

• The child has been abused, maltreated, or neglected.

• The child has been exposed to violence.

• The child has been homeless.

• The child has been removed from child care, Head Start, or preschool for behavioral reasons or is at risk of being so removed.

• The child has been exposed to parental depression or other mental illness.

• The family income with respect to the child is below 200 percent of the poverty line.

• The child has been exposed to parental substance abuse.

• The child has had early behavioral and peer relationship problems.

• The child had a low birth weight.

• The child has a cognitive deficit or developmental disability.

(2) The term “parent” includes a legal guardian or other person standing in loco parentis (such as a grandparent or stepparent with whom the child lives, or a person who is legally responsible for the child's welfare).

(3) The term “local council” means a council that is established or designated by a local government entity, Indian tribe, regional corporation, or native Hawaiian entity, as appropriate, which is composed of representatives of local agencies directly affected by early learning programs, parents, key community leaders, and other individuals concerned with early learning issues in the locality, such as elementary education, child care resource and referral services, early learning opportunities, child care, and health services.

(4) The term “local educational agency” (LEA) means:

• A public board of education or other public authority legally constituted within a State for either administrative control or direction of, or to perform a service function for, public elementary or secondary schools in a city, county, township, school district, or other political subdivision of a State, or for such a combination of school districts or counties that is recognized in a State as an administrative agency for its public elementary or secondary schools.

• The term includes any other public institution or agency having administrative control and direction of a public elementary or secondary school.

• The term includes an elementary or secondary school funded by the Bureau of Indian Affairs but only to the extent that including the school makes the school eligible for programs for which specific eligibility is not provided to such school in another provision of law and the school does not have a student population that is smaller than the student population of the local educational agency receiving assistance under this act with the smallest student population, except that the school shall not be subject to the jurisdiction of any State educational agency other than the Bureau of Indian Affairs.

• The term includes educational service agencies and consortia of those agencies.

• The term includes the State educational agency in a State in which the State is the sole educational agency for all public schools.

(6) The term “non-profit” refers to an agency, organization, or institution, that is owned and operated by one or more corporations or associations whose net earnings do not benefit, and cannot lawfully benefit, any private shareholder or entity.

(7) The term “community-based organization” means a public or private nonprofit organization of demonstrated effectiveness that is representative of a community or significant segments of a community and provides educational or related services to individuals in the community.

(8) The term “novice applicant” means any applicant for a grant for the U.S. Department of Education that:

• Has never received a grant or sub-grant under the Foundations For Learning Program;

• Has never been a member of a group application, submitted in accordance with 34 CFR 75.127-75.129, that received a grant under the Foundations For Learning Program; and

• Has not had an active discretionary grant from the Federal government in the five years before the deadline date for applications under this program (Foundations for Learning Grants). For the purposes of this requirement, a grant is active until the end of the grant's project or funding period, including any extensions of those periods that extend the grantee's authority to obligate funds.

In case of a group application submitted in accordance with 34 CFR 75.127-75.129, to qualify as a novice applicant a group includes only parties that meet the requirements listed above.

Performance measures: The Secretary has established the following key performance measures for assessing the effectiveness of the Foundations for Learning Grants Program: (1) The percentage of eligible children served by the grant attaining measurable gains in emotional, behavioral, and social development will increase; and (2) The percentage of eligible children and their families served by the grant receiving individualized support from child-serving agencies or organizations will increase.

In applying the selection criteria that follow for “Quality of project services” and “Quality of the project evaluation”, the Secretary will take into consideration the extent to which the applicant demonstrates a strong capacity to provide reliable data on these indicators.

Selection criteria: We will use the following selection criteria to evaluate applications under this competition. The maximum score for all of these criteria is 100 points. The maximum score for each criterion is indicated in parentheses.

(1) Significance (15 points)

In determining the significance of the proposed project, the following factor is considered:

(a) The extent to which the proposed project is likely to build local capacity to provide, improve, or expand services that address the needs of the target population. (15 points)

Note: Under this criterion we will look at the quality and feasibility of the applicant's plan to develop or enhance early childhood community partnerships in order to build a community system of care.

(2) Quality of the project design. (35 points)

In determining the quality of the design of the proposed project, the following factors are considered:

(a) The extent to which the design of the proposed project reflects up-to-date knowledge from research and effective practice; (10 points)

(b) The extent to which the proposed project encourages parental involvement; (10 points)

(c) The extent to which the proposed project is designed to build capacity and yield results that will extend beyond the period of Federal financial assistance; (15 points)

Note: Under this criterion we will look at the quality of the applicant's plan to comprehensively address the emotional, behavioral, and social development of eligible children.

(3) Quality of the Project Services. (30 points)

In determining the quality of project services, the following factors are considered:

(a) In determining the quality of the services to be provided by the proposed project, the quality and sufficiency of strategies for ensuring equal access and treatment for eligible project participants who are members of groups that have traditionally been underrepresented based on race, color, national origin, gender age, or disability; (5 points)

(b) The likely impact of the services to be provided by the proposed project on the intended recipients of those services; (10 points)

(c) The extent to which the services to be provided by the proposed project involve the collaboration of appropriate partners for maximizing the effectiveness of project services. (15 points)

Note: Under this criterion we will look for evidence that the applicant is likely to achieve success with respect to performance measures for this program.

(4) Quality of the Management Plan. (5 points)

In determining the quality of the management plan, the following factor is considered:

(a) How the applicant will ensure that a diversity of perspectives are brought to bear in the operation of the proposed project, including those of parents, teachers, the business community, a variety of disciplinary and professional fields, recipients or beneficiaries of services, or others, as appropriate. (5 points)

Note: Under this criterion we will look at the applicant's ability to coordinate existing similar services.

(5) Quality of the project evaluation. (15 points)

In determining the quality of the evaluation, the following factors are considered:

(a) The extent to which the methods of evaluation are thorough, feasible, and appropriate to the goals, objectives, and outcomes of the proposed project; (5 points)

(b) The extent to which the methods of evaluation include the use of objective performance measures that are clearly related to the intended outcomes of the project and will produce quantitative and qualitative data to the extent possible.(10 points)

Note: Under this criterion we will look at the quality of the applicant's plan to provide (a) reliable data that accurately measures changes in emotional, behavioral, and social development, and (b) individualized services.

Waiver of proposed rulemaking: Under the Administrative Procedure Act (5 U.S.C. 553), the Secretary generally offers interested parties the opportunity to comment on proposed rules. Section 437(d)(1) of the General Education Provisions Act, however, exempts from this requirement rules that apply to the first competition under a new or substantially revised program authority. This is the first competition under the Foundations for Learning Grants Program. These rules will apply to this FY 2003 competition only.

For applications and other information contact: Copies of the application package for this competition are available from EDPubs at 1-877-4EDPubs, and on the Internet at— http://www.ed.gov/offices/OSDFS. For all other questions, please contact LaRaba Sligh, U.S. Department of Education, 400 Maryland Avenue, SW., Room 3E240, Washington, DC 20202-6123. Email address: laraba.sligh@ed.gov.

If you use a telecommunications device for the deaf (TDD), you may call the Federal Information Relay Service (FIRS) at 1-888-877-8339.

Individuals with disabilities may obtain this document, or an application package in an alternative format (e.g., Braille, large print, audiotape, or computer diskette) on request to the contact person listed at the beginning of this section. However, the Department is not able to reproduce in an alternative format the standard forms included in the application package.

Electronic Access To This Document

You may view this document, as well as all other Department of Education documents published in the Federal Register, in text or Adobe Portable Document Format (PDF) on the Internet at the following site: http://www.ed.gov/legislation/FedRegister.

To use PDF, you must have the Adobe Acrobat Reader, which is available free at this site. If you have questions about using PDF, call the U.S. Government Printing Office (GPO) toll free at (888) 293-6498; or in the Washington, DC area at (202) 512-1530.

Note: The official version of this document is the document published in the Federal Register. Free Internet access to the official edition of the Federal Register and the Code of Federal Regulations is available on GPO Access at: http://www.access.gpo.gov/nara/index.html.

Pilot project for electronic submission of applications:

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

In FY 2003, the U.S. Department of Education is continuing to expand its pilot project for electronic submission of applications to include additional formula grant programs and additional discretionary grant competitions. Foundations for Learning Grants—CFDA #215H—is one of the programs included in the pilot project. If you are an applicant under Foundations for Learning Grants, you may submit your application to us in either electronic or paper format.

The pilot project involves the use of the Electronic Grant Application System (e-Application) portion of the Grant Administration and Payment System (GAPS). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value because you submit a grant application in electronic format, nor will we penalize you if you submit an application in paper format. When you enter the e-Application system, you will find information about its hours of operation.

• You may submit all documents electronically, including the Application for Federal Assistance (ED 424), Budget Information—Non-Construction Programs (ED 524), and all necessary assurances and certifications.

• After you electronically submit your application, you will receive an automatic acknowledgement, which will include a PR/Award number (an identifying number unique to your application).

• Within three working days after submitting your electronic application, fax a signed copy of the Application for Federal Assistance (ED 424) to the Application Control Center after following these steps:

(1) Print ED 424 from the e-Application system.

(2) The institution's Authorizing Representative must sign this form.

(3) Place the PR/Award number in the upper right hand corner of the hard copy signature page of the ED 424.

(4) Fax the signed ED 424 to the Application Control Center at (202) 260-1349.

• We may request that you give us original signatures on all other forms at a later date.

• Closing Date Extension in Case of System Unavailability:

If you elect to participate in the e-Application pilot for the Foundations for Learning Grants Program and you are prevented from submitting your application on the closing date because the e-Application system is unavailable, we will grant you an extension of one business day in order to transmit your application electronically, by mail, or by hand delivery. For us to grant this extension—

(1) You must be a registered user of e-Application, and have initiated an e-Application for this competition; and

(2)(a) The e-Application system must be unavailable for 60 minutes or more between the hours of 8:30 a.m. and 3:30 p.m., Washington, DC time, on the deadline date; or

(b) The e-Application system must be unavailable for any period of time during the last hour of operation (that is, for any period of time between 3:30 and 4:30 p.m., Washington, DC time) on the deadline date. The Department must acknowledge and confirm these periods of unavailability before granting you an extension. To request this extension you must contact either (1) LaRaba Sligh under FOR FURTHER INFORMATION CONTACT or (2) the e-GRANTS help desk at 1-888-336-8930.

You may access the electronic grant application for the Foundations for Learning Grants at: http://e-grants.ed.gov.

We have included additional information about the e-Application pilot project (see Parity Guidelines between Paper and Electronic Applications) in the application package.

Program Authority: 20 U.S.C. 7269a.

Dated: June 20, 2003.
Judge Eric Andell,
Deputy Under Secretary for Safe and Drug-Free Schools.

[FR Doc. 03-16141 Filed 6-25-03; 8:45 am]

BILLING CODE 4000-01-P